DEPARTMENT OF ENERGY

Environmental Management Site-Specific Advisory Board Chairs Meeting

AGENCY: Department of Energy.

ACTION: Notice of open meeting.

SUMMARY: This notice announces a meeting of the Environmental Management Site-Specific Advisory Board (EM SSAB) Chairs Meeting. The Federal Advisory Committee Act (Pub. L. 92-463, 86 Stat. 770) requires that public notice of these meeting be announced in the Federal Register.

DATES: February 1-2, 2002.

ADDRESSES: Sheraton Augusta Hotel, 2651 Perimeter Parkway, Augusta, GA 30909.

FOR FURTHER INFORMATION CONTACT: Gerri Flemming, Science Technology & Management Division, Department of Energy Savannah River Operations Office, PO Box A, Aiken, SC 29802, (803) 725-5374.

SUPPLEMENTARY INFORMATION:

Purpose of the Board

The purpose of the Board is to make recommendations to DOE and its regulators in the areas of environmental restoration, waste management, and related activities.

Tentative Agenda

Friday, February 1

8-8:30 a.m. Opening remarks

8:30-10 a.m. Presentation by DOE HQ Representative

10-10:15 a.m. Morning break

10:15-11:30 a.m. Panel Discussion—Participants will make a brief presentation and address specific issues on ground water across the DOE complex.

11:30-12 a.m. Site-Specific Information—Participants will view displays, obtain information and discuss site-specific issues.

12-1 p.m. Lunch

1-1:30 p.m. Site-Specific Information

1:30-1:45 p.m. Plenary Session—Participants will meet to finalize core topic areas and receive assignments for breakout sessions.

1:45-3:45 p.m. Core Topic Breakout Discussions—Groups will discuss information from DOE and site-specific presentations and develop statements for consideration from the group.

3:45-4 p.m. Break

4-5 p.m. Plenary Session—Reports from Core Topic Breakout Groups

5 p.m Adjourn

Saturday, February 2

8-8:15 a.m. Plenary Session

8:15-9:15 a.m. Site-Specific Breakout Session—Delegations will discuss statements developed by the core topic breakout groups.

9:15-10:30 a.m. Core Topic Breakout Sessions—Groups will refine their statements.

10:30-10:45 a.m. Break

10:45-11:45 a.m. Final Plenary Discussion of Core Topic Statements—Each group will present its final statements for consideration by the entire group.

11:45-12 a.m. Workshop wrap-up and evaluation

12 noon Adjourn

Public Participation

The meeting is open to the public. Written statements may be filed with the Committee either before or after the meeting. Individuals who wish to make oral statements pertaining to agenda items should contact Gerri Fleming at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting.

Minutes

Minutes of this meeting will be available for public review and copying at the Freedom of Information Public Reading Room, 1E-190, Forrestal Building, 1000 Independence Avenue, SW., Washington, DC 20585 between 9 a.m. and 4 p.m., Monday-Friday except Federal holidays. Minutes will also be available by writing or calling Gerri Flemming at the address or telephone number listed above.

Issued at Washington, DC on December 11, 2001.
Rachel M. Samuel,
Deputy Advisory Committee Management Officer.

[FR Doc. 01-31113 Filed 12-17-01; 8:45 am]

BILLING CODE 6450-01-P